DEPARTMENT OF THE INTERIOR

National Park Service

Notice of Intent to Repatriate Cultural Items: Logan Museum of Anthropology, Beloit College, Beloit, WI

AGENCY: National Park Service, Interior.

ACTION: Notice.

Notice is here given in accordance with the Native American Graves Protection and Repatriation Act (NAGPRA), 25 U.S.C. 3005, of the intent to repatriate cultural items in the possession of the Logan Museum of Anthropology, Beloit College, Beloit, WI, that meet the definitions of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural objects are one drum, four drum legs, and four drum sticks. All are catalogued within the Logan Museum's catalogue number 30058.

The drum measures 35 cm high by 62 cm in diameter. It is made of a wooden washtub covered on the top and bottom with painted hide drumheads. The top drumhead exhibits a red line and yellow stripe across the center, and half the drumhead is painted green. The paint on the top drumhead is heavily faded. The bottom drumhead is mostly unpainted on the exterior, but the interior is painted green with a red line across the center. The interior paint and a series of perforations along the side of the bottom drumhead indicate it once served as a top drumhead. A cloth strip with glass-beaded floral designs and four glass-beaded tabs with floral designs and brass tinklers are attached to the outside of the drum, near the top. Four leather straps are attached to the outside of the drum, one for each of the four drum legs. Each leg is made of wood wrapped in black cotton and blue cloth. Three of the drum sticks are long and slender with narrow heads of blue denim wrapped in cotton thread. The fourth stick is shorter, and has a round stuffed buckskin head.

In 1955, the Logan Museum acquired the drum, legs, and sticks when it purchased the collection of Albert Green Heath. Associated collection records contain Heath's following statement on the cultural items: “Large Pow wow (tribal drum) complete with 4 Drum sticks & 4 stakes. White Earth Band of Chippewas. Minn., Extremely Rare.” Collection records contain no additional information about the objects. Based on general information about his collecting history, Heath most likely acquired the drum, legs, and sticks at the White Earth Reservation in Minnesota in the early 20th century.

On the basis of Heath's attribution of the objects to the White Earth Band of Chippewas, officials of the Logan Museum of Anthropology consulted with representatives of the White Earth Band of the Minnesota Chippewa Tribe, Minnesota. During consultation, tribal representatives indicated that the drum and its associated legs and sticks are central to the Big Drum Society Ceremony, and are considered sacred objects that are needed by the Ceremony's practitioners. The drums are not owned by individuals but by Drum Societies, which are responsible for caring for the objects used in the Ceremony and thus, individuals do not have the right to alienate a Big Drum. The White Earth Band was one of the earliest of the Ojibwe (Chippewa) groups to adopt the Big Drum Society Ceremony in the 19th century, and the Ceremony has ongoing historical, traditional, and cultural importance to the tribe.

Officials of the Logan Museum of Anthropology have determined that, pursuant to 25 U.S.C. 3001 (3)(C), the nine cultural items described above are specific ceremonial objects needed by traditional Native American religious leaders for the practice of traditional Native American religions by their present-day adherents. Officials of the Logan Museum of Anthropology have also determined that, pursuant to 25 U.S.C. 3001 (3)(D), the nine cultural items described above have ongoing historical, traditional, or cultural importance central to the Native American group or culture itself, rather than property owned by an individual. Lastly, officials of the Logan Museum of Anthropology have determined that, pursuant to 25 U.S.C. 3001 (2), there is a relationship of shared group identity that can be reasonably traced between the sacred objects/objects of cultural patrimony and the White Earth Band of the Minnesota Chippewa Tribe, Minnesota.

Representatives of any other Indian tribe that believes itself to be culturally affiliated with the sacred objects/objects of cultural patrimony should contact William Green, Director, Logan Museum of Anthropology, Beloit College, 700 College St., Beloit, WI 53511, telephone (608) 363-2119, before November 6, 2008. Repatriation of the sacred objects/objects of cultural patrimony to the White Earth Band of the Minnesota Chippewa Tribe, Minnesota may proceed after that date if no additional claimants come forward.

The Logan Museum of Anthropology is responsible for notifying the White Earth Band of the Minnesota Chippewa Tribe, Minnesota that this notice has been published.

Dated: September 10,2008
Sherry Hutt,
Manager, National NAGPRA Program.

[FR Doc. E8-23698 Filed 10-6-08; 8:45 am]

BILLING CODE 4312-50-S